SOCIAL SECURITY ADMINISTRATION

Privacy Act of 1974, as Amended; New Systems of Records and New Routine Use Disclosures

AGENCY: Social Security Administration (SSA).

ACTION: Three Proposed New Systems of Records and Applicable Routine Uses.

SUMMARY: In accordance with the Privacy Act (5 U.S.C. 552a(e)(4) and (e)(11)), we are issuing public notice of our intent to establish three new systems of records entitled, the Recordings of Service Observations, Call Detail Management Information Report, and the Service Observation Database.

DATES: We filed reports of the new systems of records and the applicable routine use disclosures with the Chairman of the Senate Committee on Homeland Security and Governmental Affairs, the Chairman of the House Committee on Government Reform, and the Acting Administrator, Office of Information and Regulatory Affairs, Office of Management and Budget on January 30, 2008. These new systems of records and the new routine uses will become effective on March 28, 2008 unless we receive comments warranting that they not be effective.

ADDRESSES: Interested individuals may comment on these publications by writing to the Executive Director, Office of Public Disclosure, Office of the General Counsel, Social Security Administration, 3-A-6 Operations Building, 6401 Security Boulevard, Baltimore, Maryland 21235-6401. All comments received will be available for public inspection at the above address.

FOR FURTHER INFORMATION CONTACT: Mr. Neil Etter, Social Insurance Specialist, Disclosure Policy Development and Services Division One, Office of Public Disclosure, Office of the General Counsel, Social Security Administration, Room 3-A-6 Operations Building, 6401 Security Boulevard, Baltimore, Maryland 21235-6401, telephone: (410) 965-8028, e-mail: neil.etter@ssa.gov.

SUPPLEMENTARY INFORMATION:

I. General Background

Under sections 205(a) and 702(a)(5) of the Social Security Act, we are establishing three related new Privacy Act systems of records. We discuss these systems of records below.

A. Recordings of Service Observations

We will record telephone conversations between members of the public and the National 800 Number Network (N8NN) employees or other Agency employees when designated as call agents. Authorized service observers will be able to listen to recorded conversations to evaluate the service provided and the agent's performance.

All N8NN answering agents are subject to service observation. Only managers and other authorized personnel (known as “service observers”) monitor agent calls to ensure quality, identify training needs, and evaluate individual agent performance. Service observers in N8NN sites can access recorded conversations for evaluating service. Retrieval of information from the system of records is from the site where the calls are answered, the unit of the agent being observed, date and time of the call, type of call, and the service observer's name. For example, service observers may listen to a percentage of the incoming call conversations, every call in a specific unit, every call evaluated by a specific observer, or every call for an entire office for a specific day or a span of time (e.g., September 1 through September 15). Service observers access records by using a personal identification number (PIN) and only those with authority to service observe may access the recordings. To provide support for the service observed evaluations, the recorded calls must document the quality of our responses to the public, identify training needs, and provide documentation for service observers to use in individual employee performance discussions. It is important that all service observers evaluate in a consistent and fair manner. The system generated evaluation form will facilitate uniform and consistent evaluations made by service observers.

B. Call Detail Management Information Report

SSA field offices with Voice over Internet Protocol (VoIP) Enterprise telephone systems have access to web-based management information reports about site telephone call data. All N8NN answering sites access online web-based management information reports of their site telephone call data. The data provided include calls made and received at employee telephone extensions. Only management personnel or other authorized employees (e.g., operations analysis staff analyst) may retrieve this management information. Data may be retrieved by site, unit, extension and skill groups (Spanish language speakers, Title II Claims, Title XVI Claims, General Inquiries, Administrative Lines, etc.), and date or date intervals. For example, a manager may request a summary report of all incoming and outgoing public calls for a specific extension, a specific unit, or an entire office for a specific day or a span of time (e.g., September 1 through September 30). Access is PIN-controlled and only those with authority to access the management information while performing their official duties will have access to the data.

The data will provide documentation to support billing disputes with the vendor, assess call workload volumes, and overall site telephone service. It will help determine staffing requirements for telephone coverage and provide documentation for managers in their individual employee performance discussions. The management information also provides the telephone number of incoming and outgoing calls to or from an SSA extension. This information is often helpful in congressional inquiry cases and in responding to threats of potential suicide.

By the end of 2010, all field sites will have VoIP Enterprise telephone systems and access to vendor-supplied, web-based management information reports. Furthermore, all components will eventually acquire new VoIP Enterprise telephone systems and have access to telephone call detail for their offices.

C. Service Observation Database

All N8NN answering agents are subject to service observation. Managers and other authorized employees (known as “service observers”) are responsible for listening to agent calls to evaluate response quality. The new database system allows service observers to enter evaluation data directly to the automated Service Observation form. The quality evaluation data are accumulated into reports for the site, including unit, branch, section, and division. The new system stores the results of the call evaluations accumulating the data for management information. Only authorized service observers through a PIN-controlled process may retrieve the data. Service observers may retrieve data concerning the site, unit, name, or identification of the service observer and date and time of the call. A service observer may request a report of summary evaluation data for any unit or other level within the site for a particular date or span of time. Service observers will use the data to target training for error deficiencies, determine caller trends, and assess the quality of agent responses. Service observers may use the documentation in their individual employee performance discussions.

II. Collection and Maintenance of Data for the Three New Systems of Records

A. Recordings of Service Observations

The Recordings of Service Observation system of records will maintain identifying information on the representatives who conduct the service observation evaluation. The service observer completes and prints the evaluation form. At this point, personal information about individual agents automatically drops from the system. The only method of retrieving the call is by a service observer using the date or time of a call, the unit of the observed agent, and the type of call. Upon retrieval of the call, the management information displays how the call was evaluated by the original service observer (e.g., whether the call was satisfactory or needs improvement, whether there was a service or payment error, the reason for the call and whether a conduct or performance issue was identified).

B. Call Detail Management Information Report

The Call Detail Management Information Report systems of records will maintain call data for telephone extensions of all SSA employees who receive or make telephone calls involving SSA business with the public.

C. Service Observation Database

The Service Observation Database system of records maintains and accumulates call quality data for agent calls monitored by service observers. All calls involving SSA business with the public are subject to service observation monitoring.

III. Proposed Routine Use Disclosures of Data Maintained in the Three New Systems of Records

A. Proposed Routine Use Disclosures

We are proposing to establish the following routine use disclosures of information that we will maintain in the proposed three new systems of records.

1. To the Office of the President for the purpose of responding to an individual pursuant to an inquiry received from that individual or from a third party on his or her behalf.

We may disclose information under this routine use only in situations in which an individual may contact the Office of the President, seeking that office's assistance in matters relating to information contained in these systems of records. Information will be disclosed when the Office of the President makes an inquiry and indicates that it is acting on behalf of the individual whose data is requested.

2. To a congressional office in response to an inquiry from that office made at the request of the subject of a record.

We may disclose information under this routine use only in situations in which the individual may ask his or her congressional representative to intercede in matters relating to information contained in these systems of records. Information will be disclosed when the congressional representative makes an inquiry and indicates that he or she is acting on behalf of the individual whose record is requested.

3. To the Department of Justice (DOJ), a court, or other tribunal, or other party before such tribunal when:

(a) SSA, or any component thereof;

(b) Or any SSA employee in his/her official capacity; or

(c) Any SSA employee in his/her individual capacity where DOJ (or SSA where it is authorized to do so) has agreed to represent the employee; or

(d) The United States, or any agency thereof, where SSA determines that the litigation is likely to affect the operations of SSA or any of its components,

is a party to litigation or has an interest in such litigation, and SSA determines that the use of such records by DOJ, a court, or other tribunal, or another party before such tribunal, is relevant and necessary to the litigation, provided, however, that in each case, SSA determines that such disclosure is compatible with the purpose for which the records were collected.

We may disclose information under this routine use only as necessary to enable DOJ to effectively represent or defend SSA, its components or employees in litigation involving this proposed system of records or when the United States is a party to litigation and SSA has an interest in the litigation.

4. To SSA contractors and to other Federal agencies, as necessary, for the purpose of assisting SSA in the efficient administration of its programs. We will disclose information under this routine use only in situations in which SSA may enter a contractual or similar agreement with a third party to assist in accomplishing an agency function relating to this system of records.

SSA occasionally contracts out certain functions when this would contribute to effective and efficient operations. SSA must be able to give its contractor or another Federal agency whatever information SSA can legally provide in order for the contractor or Federal agency to fulfill its duties. In situations in which we use contractors, we provide safeguards in the contract prohibiting the contractor from using or disclosing the information for any purpose other than that described in the contract.

5. To student volunteers, individuals working under a personal services contract, and other individuals performing functions for SSA but technically not having the status of agency employees, if they need access to the records in order to perform their assigned agency functions.

Under certain Federal statutes, SSA is authorized to use the service of volunteers and participants in certain educational, training, employment and community service programs. An example of such statutes and programs includes 5 U.S.C. 2753 regarding the College Work-Study Program. We may disclose information under this routine use only when SSA uses the services of these individuals, and they need access to information in these systems of records to perform their assigned agency duties.

6. To Federal, State, and local law enforcement agencies and private security contractors as appropriate, information necessary:

(a) To enable them to protect the safety of SSA employees and the public, the security of the SSA workplace, and the operation of SSA facilities; or

(b) To assist investigations or prosecutions with respect to activities that affects such safety and security or activities that disrupt the operation of SSA facilities.

We may disclose information under this routine use to law enforcement agencies and private security contractors when information is needed to respond to, investigate, or prevent activities that jeopardize the security and safety of the public, employees or workplaces or that otherwise disrupt the operation of SSA facilities. Information would also be disclosed to assist in the prosecution of persons charged with violating Federal or local law in connection with such activities.

7. To the General Services Administration (GSA) and the National Archives and Records Administration (NARA) under 44 U.S.C. 2904 and 2906, as amended by the NARA Act of 1984, information which is not restricted from disclosure by Federal law for the use by those agencies in conducting records management studies.

The Administrator of GSA and the Archivist of NARA are authorized by 44 U.S.C. 2904, as amended, to promulgate standards, procedures, and guidelines regarding record management and conducting records management studies. GSA and NARA are authorized to inspect Federal agencies' records, for records management purposes, and agencies are expected to cooperate with GSA and NARA (44 U.S.C. 2906). In such instances, the routine use will facilitate disclosure.

8. To the Equal Employment Opportunity Commission (EEOC) when requested in connection with investigations into alleged or possible discriminatory practices in the Federal sector, examination of Federal affirmative employment programs, compliance by Federal agencies with the Uniform Guidelines on Employee Selection Procedures, or other functions vested in the Commission.

We may disclose information from the systems of records to the EEOC when SSA determines that an EEO complaint has been filed and the EEOC requires the systems of records information to perform its investigation to determine if the employee's complaint is justified.

9. To the Merit Systems Protection Board or the Office of Special Counsel in connection with appeals, special studies of the civil service and other merit systems, review of rules and regulations, investigation of alleged or possible prohibited personnel practices, and other such functions promulgated in 5 U.S.C. Chapter 12, or as may be authorized by law

We will disclose information under this routine use to the Merit Systems Protection Board or the Office of Special Counsel when requested in matters pending before the Merit Systems Protection Board or the Office of Special Counsel.

10. To the Federal Labor Relations Authority, the Office of the Special Counsel, the Federal Mediation and Conciliation Service, the Federal Service Impasses Panel (FSIP), or an arbitrator when information is requested in connection with the investigations of allegations of unfair practices, matters before an arbitrator or the Federal Service Impasses Panel.

We may disclose systems of records information to these entities when such organization is charged with making a determination on allegations of unfair practices, matters before an arbitrator or the FSIP.

11. To the Department of Justice for:

(a) Investigating and prosecuting violations of the Social Security Act to which criminal penalties attach;

(b) Representing the Commissioner; or

(c) Investigating issues of fraud or violation of civil rights by agency officers or employees.

We will disclose information under this routine use only as necessary to enable DOJ to represent SSA in matters concerning violations of the Social Security Act, to represent the Commissioner of Social Security, or to investigate issues of fraud or violations of civil rights by SSA officers or employees.

12. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

This routine use specifically permits the disclosure of SSA information in connection with response and remediation efforts in the event of an unintentional release of Agency information, otherwise known as a “data security breach.” This routine use serves to protect the interests of the people whose information is at risk by allowing us to take appropriate steps to facilitate a timely and effective response to a data breach. It will also help us to improve our ability to prevent, minimize, or remedy any harm that may result from a compromise of data maintained in these three systems of records.

B. Compatibility of Proposed Routine Uses

The Privacy Act (5 U.S.C. 552a(b)(3)) and our disclosure regulations (20 CFR Part 401) permit us to disclose information under a published routine use for a purpose that is compatible with the purpose for which we collected the information. SSA's regulations at 20 CFR 401.150(c) permit us to disclose information under a routine use where necessary to carry out SSA programs. SSA's regulations at 20 CFR 401.120 provide that we will disclose information when a law specifically requires the disclosure. The proposed routine uses will ensure efficient performance of our functions relating to the purpose and administration of the proposed Call Detail Management Information Report, the Service Observation Database, and the Recordings of Service Observations systems of records. In addition, Federal law requires the disclosures that we make under routine use number seven. Thus, the proposed routine uses are appropriate and meet the relevant statutory and regulatory criteria.

IV. Records Storage Medium and Safeguards for the Information Maintained in the Proposed Systems of Records

1. Recordings of Service Observations

The Recordings of Service Observation system of records is a repository for records in electronic form. Only authorized SSA personnel who have a need for the information in the performance of their official duties may access the information. We will safeguard the security of the information by requiring the use of access codes to enter the computer systems that will maintain the data, and will store computerized records in secured areas that are accessible only to employees who require the information to perform their official duties. Safeguards include a lock/unlock password system, exclusive use of leased telephone lines, a terminal-oriented transaction matrix, and an audit trail. Furthermore, SSA employees having access to SSA databases maintaining personal information must sign a sanction document annually, acknowledging their accountability for making unauthorized access to or disclosure of such information.

SSA personnel having access to the data in this system of records will be informed of the criminal penalties provided in the Privacy Act, 5 U.S.C. 552a(i)(1), and other statutes for unauthorized access to or disclosure of information maintained in this system of records.

Contractor personnel having access to data in this system of records will be required to adhere to SSA rules concerning safeguards, access, and use of the data.

2. Call Detail Management Information Report

The Call Detail Management Information Report system of records is a repository for records in paper and electronic form. Only authorized SSA personnel who have a need for the information in the performance of their official duties may access the information. We will safeguard the security of the information by requiring the use of access codes to enter the computer systems that will maintain the data, and will store computerized records in secured areas that are accessible only to employees who require the information to perform their official duties. Safeguards include a lock/unlock password system, exclusive use of leased telephone lines, a terminal-oriented transaction matrix, and an audit trail. Any manually maintained records will be kept in locked cabinets or in otherwise secure areas. Furthermore, SSA employees having access to SSA databases maintaining personal information must sign a sanction document annually, acknowledging their accountability for making unauthorized access to or disclosure of such information.

SSA personnel having access to the data in this system of records will be informed of the criminal penalties provided in the Privacy Act, 5 U.S.C. 552a(i)(1), and other statutes for unauthorized access to or disclosure of information maintained in this system of records.

Contractor personnel having access to data in this system of records will be required to adhere to SSA rules concerning safeguards, access, and use of the data.

3. Service Observation Database

The Service Observation Database system of records is a repository for records in paper and electronic form. Only authorized SSA personnel who have a need for the information in the performance of their official duties may access the information. We will safeguard the security of the information by requiring the use of access codes to enter the computer systems that will maintain the data, and will store computerized records in secured areas that are accessible only to employees who require the information to perform their official duties. Safeguards include a lock/unlock password system, exclusive use of leased telephone lines, a terminal-oriented transaction matrix, and an audit trail. Any manually maintained records are stored in locked cabinets or in otherwise secure areas. Furthermore, SSA employees having access to SSA databases maintaining personal information must sign a sanction document annually, acknowledging their accountability for making unauthorized access to or disclosure of such information.

Contractor personnel having access to data in this system of records will be required to adhere to SSA rules concerning safeguards, access, and use of the data. SSA personnel having access to the data in this system of records will be informed of the criminal penalties provided in the Privacy Act, 5 U.S.C. 552a(i)(1), and other statutes for unauthorized access to or disclosure of information maintained in this system of records.

V. Effect of the Proposed System of Records on the Rights of Individuals

These systems of records will provide a variety of support for management in handling performance evaluation discussions with employees. This includes whether the call response by the employees were accurate, or if not, any reasons. These systems of records will also include employees' average call-talk time compared with office or unit averages, and they will facilitate evaluations submitted into automated Service Observation Report Forms. These forms, which are printed, permit the discussion of the employee's performance with the agent that handled the call.

In accordance with the Privacy Act, we will use and disclose data maintained in these systems of records. We do not anticipate that these systems of records will have any unwarranted adverse effect on the rights of individuals about whom data will be maintained.

We will employ security measures that protect access to and preclude unauthorized disclosure of records in the three proposed systems of records. We will also use the information only for the purposes which are establishing the systems of records. Therefore, we do not anticipate that the proposed systems of records will have any unwarranted adverse effect on the privacy or other rights of individuals.

Dated: January 24, 2008.
Michael J. Astrue,
Commissioner.

Social Security Administration Notice of System of Records Required by the Privacy Act of 1974, as Amended

System number:

60-0362.

System name:

Recordings of Service Observations.

Security classification:

None.

System location:

The following locations will each have the equipment that enables service observers to use the vendor's telephone system to select and record agent calls: National 800 Number Network (N8NN) sites, regional Office of Quality Performance (OQP) sites, Office of Operations regional offices' N8NN directors and staff. Contact the system manager at the address below for the address of these sites. Records are also located in the central offices of OQP and the Office of Telephone Services. The address of these offices is Social Security Administration (SSA), 6401 Security Boulevard, Baltimore, MD 21235.

Categories of individuals covered by the system:

All N8NN calls are subject to unannounced service observation. Recorded telephone conversations between public callers and SSA agents will be stored in the system of records. Service observers will document the evaluation and enter this data into the system of records. The system of records will accumulate data from the inputs of evaluations.

Categories of records in the system:

Recorded calls between callers and SSA agents will be maintained in this system of records and will include date and time of the recorded call, the observer's name, the agent's unit or module number (not individual agent identifier) and caller's name (and address, if available).

Authority for maintenance of the system:

Sections 205(a) and 702(a)(5) of the Social Security Act (42 U.S.C. 405(a) and 902(a)(5)). The authority to conduct consensual service observation activities, cited in regulation 20 CFR Part 422, Listening-In to or Recording Telephone Conversations, must be renewed every 5 years. It was renewed on December 1, 2005.

Purpose(s):

Electronic recordings of service observations or results will be used for performance assessments, conduct issues, and disciplinary actions. These recordings will also determine individual employee, unit, and office-wide training needs, as well as the quality of responses, trends, public reactions to policies, legislation, and other public announcements. The recordings will be used to train service observers to ensure uniform and consistent evaluation criteria and as documentation for any disciplinary and performance-based actions.

Service observers will routinely record calls and access recordings of telephone conversations in the system of records. Service observers and possibly other site management will use recorded service observed call conversations for determining training needs, ensuring uniform and consistent evaluations, and improving the overall monitoring quality and performance management process. The manager uses the evaluations to assess agent response quality as well as support any conduct issues and disciplinary actions. OQP Headquarters and regional personnel will routinely record all calls for a particular site to evaluate a site's quality. OTS and regional N8NN director staffs will also use the system of records to evaluate the management of the service observation program, and the overall quality, integrity, and courtesy of agent responses. Moreover, they will be able to view the details about the calls observed, the reasons callers called the N8NN, the programs involved, and the types of errors for assessing training needs on a regional or national basis.

Routine uses of records maintained in the systems of records, including categories of users and the purposes of such use:

Routine uses disclosures are as indicated below:

1. To the Office of the President for the purpose of responding to an individual pursuant to an inquiry received from that individual or from a third party on his/her behalf.

2. To a congressional office in response to an inquiry from that office made at the request of the subject of a record.

3. To the Department of Justice (DOJ), a court or other tribunal, or another party before such tribunal when:

a. SSA or any component thereof; or

b. Any SSA employee in his/her official capacity; or

c. Any SSA employee in his/her individual capacity when DOJ (or SSA when it is authorized to do so) has agreed to represent the employee; or

d. The United States or any agency thereof when SSA determines that the litigation is likely to affect the operations of SSA or any of its components,

is a party to litigation or has an interest in such litigation, and SSA determines that the use of such records by DOJ, a court or other tribunal, or another party before such tribunal, is relevant and necessary to the litigation, provided, however, that in each case, SSA determines that such disclosure is compatible with the purpose for which the records were collected.

4. To SSA contractors and other Federal agencies, disclosure may be unrestricted as necessary, for assisting SSA in the efficient administration of its programs. We will disclose information under this routine use only in situations in which SSA may enter into a contractual or similar agreement with a third party to assist in accomplishing an agency function relating to this system of records.

5. To student volunteers, individuals working under a personal services contract, and other workers who technically do not have the status of Federal employees, when they are performing work for SSA as authorized by law, and they need access to personally identifiable information in SSA records in order to perform their assigned Agency functions.

6. To Federal, State, and local law enforcement agencies and private security contractors as appropriate, information necessary:

(a) To enable them to protect the safety of SSA employees and the public, the security of the SSA workplace, and the operation of SSA facilities; or

(b) To assist investigations or prosecutions with respect to activities that affects such safety and security or activities that disrupt the operation of SSA facilities.

7. To the General Services Administration and the National Archives Records Administration (NARA) under 44 U.S.C. 2904 and 2906, as amended by the NARA Act of 1984, information which is not restricted from disclosure by Federal law for the use by those agencies in conducting records management studies.

8. To the Equal Employment Opportunity Commission when requested in connection with investigations into alleged or possible discriminatory practices in the Federal sector, examination of Federal affirmative employment programs, compliance by Federal agencies with the Uniform Guidelines on Employee Selection Procedures, or other functions vested in the Commission.

9. To the Merit Systems Protection Board or the Office of Special Counsel in connection with appeals, special studies of the civil service and other merit systems, review of rules and regulations, investigation of alleged or possible prohibited personnel practices, and other such functions promulgated in 5 U.S.C. Chapter 12, or as may be authorized by law.

10. To the Federal Labor Relations Authority, the Office of the Special Counsel, the Federal Mediation and Conciliation Service, the Federal Service Impasses Panel, or an arbitrator requesting information in connection with the investigations of allegations of unfair practices, matters before an arbitrator or the Federal Service Impasses Panel.

11. To the Department of Justice for:

(a) Investigating and prosecuting violations of the Social Security Act to which criminal penalties attach;

(b) Representing the Commissioner; or

(c) Investigating issues of fraud or violation of civil rights by agency officers or employees.

12. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

Policies and practices for storing, retrieving, accessing, retaining and disposing of records in the system of records:

Storage:

The records created from the Recordings of Service Observations system of records are electronic only.

Retrievability:

The observers, management, OQP, and regional and Headquarters staffs authorized to conduct service observations will have access to the recordings. Recorded call data will be stored and retrieved by a combination of day, date, time of the call, the type of call, and the observer's name and the agent's unit number.

Safeguards:

Information is compartmentalized so that service observers who have an official need for the information in the performance of their duties at one site have access only to data or records at their sites, and that those authorized outside the site may only access site information within their jurisdictions. Regional office 800 number director staffs will have access to all sites in their respective regions. OQP and Headquarters observers will have nationwide access. Access is through a PIN-based authorization process.

Established safeguards for automated records are in accordance with the Systems Security Handbook. For computerized records electronically transmitted between SSA's central office and field office locations (including organizations administering SSA programs under contractual agreements), safeguards include a lock/unlock password system, exclusive use of leased telephone lines, a terminal-oriented transaction matrix, and an audit trail. Access http://www.ssa.gov/foia/bluebook/app_g.htm for additional information regarding the safeguards SSA employs to protect its paper and automated records.

Retention and disposal:

When the service observer listens to a call, an automated Service Observation Report form is completed. Both the observer or manager and the agent sign the form. Per the current personnel file retention procedures, we will maintain paper copies of the Service Observation Report Form in the SF-7b extension personnel files. The system of records maintains recorded call conversations for 14 days, at which time the call conversations are automatically destroyed. If the employee's recorded service observation results in an unsatisfactory evaluation by the service observer, however, the call conversation is automatically retained for 60 days from the date of the call and then destroyed. The manager will archive the recording for a full two-year period from the date all actions are closed if the evaluation results in a performance or conduct issue, the recording is used to support a disciplinary action, the employee files a grievance, or if the employee files an Equal Employment Opportunity complaint. In these situations, the employee may request to listen to the recorded call, and management will then make the recording available for listening within five business days of the request, whenever possible. Management must be present while the employee listens to a recorded call. The employee receives a copy of the sanitized Service Observation Report Form, and the manager places the original sanitized form in the SF-7b extension file. When an EEO complaint is involved, the manager will download the recording to a disk and place the disk in the employee's SF-7b extension personnel file for the four-year retention period, or as long as is required for the duration of pending/ongoing litigation.

Only members of management may delete records from the system of records. If the agent conversation involves litigation, management will archive the recording in the system of records.

The Agency established a retention and disposal schedule for the retained recordings. Current policies set for retention and destruction of personnel records cover forms placed in the SF-7b extension file.

System of records manager(s) and address(es):

Associate Commissioner for Telephone Services, Office of the Deputy Commissioner for Operations, Office of Telephone Services, 6401 Security Boulevard, 4840 Annex Building, Baltimore, Maryland 21235.

Notification procedure(s):

An individual can determine if this system of records contains a record about him/her by writing to the system of records manager(s) at the above address and providing his/her name, work telephone number, or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined, that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual. Authentication will be conducted before connecting with both parties.

If a request for notification is submitted by mail, an individual must include a notarized statement to SSA to verify his/her identity or must certify in the request that he/she is the person claimed to be. Moreover, that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. In addition, requesters should reasonably identify the record, specify the information they are contesting, and state the corrective action sought, and the reasons for the correction, with supporting justification showing how the record is incomplete, untimely, inaccurate or irrelevant. These procedures are in accordance with SSA Regulations (20 CFR 401.65(a)).

Record source categories:

The source of electronic/paper records retained at sites is the software recording system provided by a vendor providing telecommunications services.

System of records exempted from certain provisions of the Privacy Act:

None.

Social Security Administration Notice of System of Records Required by the Privacy Act of 1974, as Amended

System number:

60-0363.

System name:

Call Detail Management Information Report.

Security classification:

None.

System location:

The vendor responsible for providing new telephone systems provides call detail reports, which are immediately available in a web-based report format to management (known as service observers), at their desktops. Reports are also available from the N8NN telephone system automatic call distribution (ACD) equipment that give call details for all calls received or dialed.

Real time queries and reports, as well as historical summary data (half-hourly, hourly, daily, weekly, monthly, quarterly, and annually) are available by telephone extension, unit, branch, division, center, area, region, and national.

The locations of these records include field offices, teleservice centers, area director and regional offices, processing centers, Office of Central Operations (OCO) answering centers, and the Office of Disability Adjudication and Review (ODAR) Headquarters and regional hearing offices. Contact the system manager at the address below for the address of these sites. Records are also located at Social Security Administration (SSA) central office components. The SSA central office address is Social Security Administration (SSA), 6401 Security Boulevard, Baltimore, MD 21235.

Categories of individuals covered by the system:

SSA employees who are assigned telephone numbers.

Categories of records in the system:

Call detail reports contain all telephone extensions in SSA offices and include the telephone number(s) of callers to the office. Employees' names may be associated with an extension, but the system of records does not provide the name of the person who called from that number. However, it does provide the number dialed on outgoing calls and the employee's extension.

Automatic call distribution equipment also includes the caller's telephone number, the extension of the agent answering the call, unit number, date of call, and all the particulars of the call (e.g., duration, how long it took for the agent to answer the call, how much time was spent working after the call was completed, time on hold, transfer information, and employee skill set [e.g., Spanish speaking, Title II Claims, Title XVI Claims, General Inquiry]).

For offices with upgraded telephone systems, the system provides additional information when the office sets up the system to identify skill groups (e.g., the skill set of the employee assigned to that extension [claims representative, service representative]). In cases of skill group setups, the detail on the Web site would also provide that an extension that received or made the call is assigned to an employee in a Title II or Title XVI, General Inquiry, Administrative, Family Line, etc. In regional offices, processing centers, OCO call answering sites, components at Headquarters, ODAR Headquarters regional and local offices, the component name, site, division or branch title, section or unit identification, employee name, extension, etc., may be set up for identifying incoming or outgoing call destinations with the same call detail particulars already mentioned.

Authority for maintenance of the system of records:

Sections 205(a) and 702(a)(5) of the Social Security Act (42 U.S.C. 405(a) and 902(a)(5)).

Purpose(s):

This system of records provides immediate online call detail management information. SSA management will use call detail reports for the following purposes:

• To determine office, unit and employee performance and service efficiency (i.e., call-talk time of a claims representatives can help evaluate the average number of claims that can be taken within a specific period of time, which is helpful in determining staffing for that workload);

• For employee performance assessment, and determining any conduct issues and disciplinary action;

• To validate a complaint from a member of the public (i.e., verify which extension received a call to be able to discuss the problem with the employee assigned to that extension);

• To trace or identify or associate call data regarding the number of a caller threatening the safety of the public, Federal employees, or Federal property;

• As documentation to rebut costs provided on a monthly bill from the telephone company or carrier;

• To help management determine if an employee receives or makes repeated personal calls from or to a number over a period of time;

• To verify numerous calls to or from the same number for litigation purposes; and

• To assist the Office of the Inspector General office representatives in an investigation; and

• To support any other SSA regional or Headquarters employees in their official capacity to provide employee counseling.

Routine uses of records maintained in the systems of records, including categories of users and the purposes of such use:

Routine uses disclosures are as indicated below:

1. To the Office of the President for the purpose of responding to an individual pursuant to an inquiry received from that individual or from a third party on his/her behalf.

2. To a congressional office in response to an inquiry from that office made at the request of the subject of a record.

3. To the Department of Justice (DOJ), a court or other tribunal, or another party before such tribunal when:

(a) SSA or any component thereof; or

(b) Any SSA employee in his/her official capacity; or

(c) Any SSA employee in his/her individual capacity when DOJ (or SSA when it is authorized to do so) has agreed to represent the employee; or

(d) The United States or any agency thereof when SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

4. To SSA contractors and other Federal agencies, disclosure may be unrestricted as necessary, for assisting SSA in the efficient administration of its programs. We will disclose information under this routine use only in situations in which SSA may enter into a contractual or similar agreement with a third party to assist in accomplishing an agency function relating to this system of records.

5. To student volunteers, individuals working under a personal services contract, and other workers who technically do not have the status of Federal employees, when they are performing work for SSA as authorized by law, and they need access to personally identifiable information in SSA records in order to perform their assigned Agency functions.

6. To Federal, State, and local law enforcement agencies and private security contractors as appropriate, information necessary:

(a) To enable them to protect the safety of SSA employees and the public, the security of the SSA workplace, and the operation of SSA facilities; or

(b) To assist investigations or prosecutions with respect to activities that affects such safety and security or activities that disrupt the operation of SSA facilities.

7. To the General Services Administration and the National Archives Records Administration (NARA) under 44 U.S.C. 2904 and 2906, as amended by the NARA Act of 1984, information which is not restricted from disclosure by Federal law for the use by those agencies in conducting records management studies.

8. To the Equal Employment Opportunity Commission when requested in connection with investigations into alleged or possible discriminatory practices in the Federal sector, examination of Federal affirmative employment programs, compliance by Federal agencies with the Uniform Guidelines on Employee Selection Procedures, or other functions vested in the Commission.

9. To the Merit Systems Protection Board or the Office of Special Counsel in connection with appeals, special studies of the civil service and other merit systems, review of rules and regulations, investigation of alleged or possible prohibited personnel practices, and other such functions promulgated in 5 U.S.C. Chapter 12, or as may be authorized by law.

10. To the Federal Labor Relations Authority, the Office of the Special Counsel, the Federal Mediation and Conciliation Service, the Federal Service Impasses Panel, or an arbitrator requesting information in connection with the investigations of allegations of unfair practices, matters before an arbitrator or the Federal Service Impasses Panel.

11. To the Department of Justice for:

(a) Investigating and prosecuting violations of the Social Security Act to which criminal penalties attach;

(b) Representing the Commissioner; or

(c) Investigating issues of fraud or violation of civil rights by agency officers or employees.

12. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

Policies and practices for storing, retrieving, accessing, retaining and disposing of records in the system of records:

Storage:

The storage media is paper and electronic.

Retrievability:

Date, employee name, employee unit number, extension number, retrieve records by billing number, site, unit, section, branch, division, component, area, region, and nation. Only authorized management personnel may retrieve call detail records during the three-year retention period.

Safeguards:

Paper records are stored in approved management filing cabinets, which only management may access. Only management personnel with management passwords and PINs may access electronic records.

Established safeguards for automated records are in accordance with the Systems Security Handbook. For computerized records electronically transmitted between SSA's central office and field office locations (including organizations administering SSA programs under contractual agreements), safeguards include a lock/unlock password system, exclusive use of leased telephone lines, a terminal-oriented transaction matrix, and an audit trail. Access http://www.ssa.gov/foia/bluebook/app_g.htm for additional information regarding the safeguards SSA employs to protect its paper and automated records.

Retention and disposal:

The Agency retains telephone detail records for three years, at which time they are destroyed.

System of records manager(s) and address(es):

Associate Commissioner, Office of Telephone Services, Office of the Deputy Commissioner for Operations, Social Security Administration, 6401 Security Boulevard, 4840 Annex Building, Baltimore, Maryland 21235.

Notification procedure(s):

An individual can determine if this system of records contains a record about him/her by writing to the system of records manager(s) at the above address and providing his/her name, work telephone number, or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedures:

Same as Notification procedures. In addition, requesters should reasonably identify the record, specify the information they are contesting, and state the corrective action sought, and the reasons for the correction, with supporting justification showing how the record is incomplete, untimely, inaccurate or irrelevant. These procedures are in accordance with SSA Regulations (20 CFR 401.65(a)).

Record source categories:

The source of electronic and paper records retained at sites for call detail is from the telephone bill provided by the carrier or telephone company. Call detail is also available through a vendor provided web-based system of reports. The vendor supplies call detail reports electronically from automatic call distribution equipment.

System of records exempted from certain provisions of the Privacy Act:

None.

Social Security Administration Notice of System of Records Required by the Privacy Act of 1974, as Amended

System number: 60-0364.

System name:

Service Observation Database.

Security classification:

None.

System location:

Denver Regional Office, Regional Communications Office, Social Security Administration, 1961 Stout Street, Room 1052, Denver, Colorado 80294.

Categories of individuals covered by the system:

Service Observers or monitors who conduct service observations of, or listen to, National 800 Number calls.

Categories of records in the system:

The system of records will store the service observer's evaluative data for accumulating management information about the type of call and the accuracy of the information we provide to callers. The accumulated management information in the system of records will be available at the unit, branch, section, division, and site levels. No personal information about the agent or the caller will be stored. The service observer completes and prints the automated Service Observation Report Form. The service observer sanitizes all information about the caller on the paper Service Observation Report Form and discusses the performance with the employee. After this discussion, the observer files the form in the employee's SF-7b personnel extension file.

Authority for maintenance of the system:

Sections 205(a) and 702(a)(5) of the Social Security Act (42 U.S.C. 405(a) and 902(a)(5)).

Purpose(s):

This system of records provides immediate management information about the quality of agent responses and services provided by the N8NN. SSA management will use the database reports for the following purposes:

• To determine office and unit performance and service efficiency for specified periods of time;

• To assess caller behavior such as the reasons members of the public call SSA;

• To determine the quality of services provided by employees answering N8NN calls; and

• To determine training needs at all levels.

Routine uses of records maintained in the systems of records, including categories of users and the purposes of such use:

Routine uses disclosures are as indicated below:

12. To the Office of the President for the purpose of responding to an individual pursuant to an inquiry received from that individual or from a third party on his/her behalf.

13. To a congressional office in response to an inquiry from that office made at the request of the subject of a record.

14. To the Department of Justice (DOJ), a court or other tribunal, or another party before such tribunal when:

(a) SSA or any component thereof; or

(b) Any SSA employee in his/her official capacity; or

(c) Any SSA employee in his/her individual capacity when DOJ (or SSA when it is authorized to do so) has agreed to represent the employee; or

(d) The United States or any agency thereof when SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

15. To SSA contractors and other Federal agencies, disclosure may be unrestricted as necessary, for assisting SSA in the efficient administration of its programs. We will disclose information under this routine use only in situations in which SSA may enter into a contractual or similar agreement with a third party to assist in accomplishing an agency function relating to this system of records.

16. To student volunteers, individuals working under a personal services contract, and other workers who technically do not have the status of Federal employees, when they are performing work for SSA as authorized by law, and they need access to personally identifiable information in SSA records in order to perform their assigned Agency functions.

17. To Federal, State, and local law enforcement agencies and private security contractors as appropriate, information necessary:

(a) To enable them to protect the safety of SSA employees and the public, the security of the SSA workplace, and the operation of SSA facilities; or

(b) To assist investigations or prosecutions with respect to activities that affects such safety and security or activities that disrupt the operation of SSA facilities.

18. To the General Services Administration and the National Archives Records Administration (NARA) under 44 U.S.C. 2904 and 2906, as amended by the NARA Act of 1984, information which is not restricted from disclosure by Federal law for the use by those agencies in conducting records management studies.

19. To the Equal Employment Opportunity Commission when requested in connection with investigations into alleged or possible discriminatory practices in the Federal sector, examination of Federal affirmative employment programs, compliance by Federal agencies with the Uniform Guidelines on Employee Selection Procedures, or other functions vested in the Commission.

20. To the Merit Systems Protection Board or the Office of Special Counsel in connection with appeals, special studies of the civil service and other merit systems, review of rules and regulations, investigation of alleged or possible prohibited personnel practices, and other such functions promulgated in 5 U.S.C. Chapter 12, or as may be authorized by law.

21. To the Federal Labor Relations Authority, the Office of the Special Counsel, the Federal Mediation and Conciliation Service, the Federal Service Impasses Panel, or an arbitrator requesting information in connection with the investigations of allegations of unfair practices, matters before an arbitrator or the Federal Service Impasses Panel.

22. To the Department of Justice for:

(a) Investigating and prosecuting violations of the Social Security Act to which criminal penalties attach;

(b) Representing the Commissioner; or

(c) Investigating issues of fraud or violation of civil rights by agency officers or employees.

12. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

Policies and practices for storing, retrieving, accessing, retaining and disposing of records in the system of records:

Storage:

Records are maintained in both electronic and paper form.

Retrievability:

Managers retrieve database management information by the service observer name, region, site, division, branch, unit of monitored employee, date of call, and type of call.

Safeguards:

Limited access to SSA electronic records protects the Service Observation Database system of records files. The PIN and password process safeguards information by limiting access to only those employees with a need to know. Only management personnel with authorized security profiles in SSA's systems can access the records.

Established safeguards for automated records are in accordance with the Systems Security Handbook. For computerized records electronically transmitted between SSA's central office and field office locations (including organizations administering SSA programs under contractual agreements), safeguards include a lock/unlock password system, exclusive use of leased telephone lines, a terminal-oriented transaction matrix, and an audit trail. Access http://www.ssa.gov/foia/bluebook/app_g.htm for additional information regarding the safeguards SSA employs to protect its paper and automated records.

Retention and disposal:

The Agency retains the management information contained in this system of records file for 3 years. A Request for Records Disposition Authority is available. See General Records Schedule 20, Transmittal No. 7, Section 4 approved by the National Archives and Records Administration.

System of records manager(s) and address:

Deputy Commissioner for Budget, Finance, and Management, Social Security Administration, 6401 Security Boulevard, 800 Altmeyer Building, Baltimore, Maryland 21235.

Notification procedure(s):

An individual can determine if one of these systems of records contains a record about him or her by writing to the system of records manager(s) at the above address and providing his or her name, work telephone number, or other information that may be in the system of records that will identify him or her. An individual requesting notification of records in person should provide the same information, as well as provide an identity document, preferably with a photograph, such as a driver's license or some other means of identification. If an individual does not have any identification documents sufficient to establish his or her identity, the individual must certify in writing that he or she is the person that he or she claims to be and that he or she understands that the knowing and willful request for, or acquisition of, a record pertaining to another individual under false pretenses is a criminal offense.

If notification is requested by telephone, an individual must verify his or her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his or her name, Social Security Number, address, date of birth and place of birth along with one other piece of information such as mother's maiden name) and ask for his or her consent in providing information to the requesting individual.

If a request for notification is submitted by mail, an individual must include a notarized statement to SSA to verify his or her identity or must certify in the request that he or she is the person claimed to be and that he/she understands that the knowing and willful request for, or acquisition of, a record pertaining to another individual under false pretenses is a criminal offense. These procedures are in accordance with SSA Regulations (20 CFR 401.40(c)).

Record access procedures:

Same as Notification procedures. Requesters should also reasonably specify the record contents being sought. These procedures are in accordance with SSA Regulations (20 CFR 401.40(c)).

Contesting record procedure(s):

Same as Notification procedures. Requesters also should reasonably identify the record, specify the information they are contesting, and state the corrective action sought and the reasons for the correction with supporting justification showing how the record is untimely, incomplete, inaccurate, or irrelevant. These procedures are in accordance with SSA regulations (20 CFR 401.65(a)).

Record source categories:

The Service Observation Database is a conglomeration of service observation evaluations completed by service observers using the Service Observation Report Form.

System of records exempted from certain provisions of the Privacy Act:

None.

[FR Doc. E8-6232 Filed 3-26-08; 8:45 am]

BILLING CODE 4191-02-P